BUREAU OF CONSUMER FINANCIAL PROTECTION

Privacy Act of 1974, as Amended

AGENCY: Bureau of Consumer Financial Protection.

ACTION: Notice of proposed Privacy Act System of Records.

SUMMARY: In accordance with the Privacy Act of 1974, as amended, the Bureau of Consumer Financial Protection, hereinto referred to as the Consumer Financial Protection Bureau (“CFPB” or the “Bureau”), gives notice of the establishment of a Privacy Act System of Records.

DATES: Comments must be received no later than July 13, 2012. The new system of records will be effective July 23, 2012 unless the comments received result in a contrary determination.

ADDRESSES: You may submit comments by any of the following methods:

• Electronic: privacy@cfpb.gov.

• Mail or Hand Delivery/Courier: Claire Stapleton, Chief Privacy Officer, Consumer Financial Protection Bureau, 1700 G Street NW., Washington, DC 20552.

Comments will be available for public inspection and copying at 1700 G Street NW., Washington, DC 20552, on official business days between the hours of 10 a.m. and 5 p.m. Eastern Time. You can make an appointment to inspect comments by telephoning (202) 435-7220. All comments, including attachments and other supporting materials, will become part of the public record and subject to public disclosure. You should submit only information that you wish to make available publicly.

FOR FURTHER INFORMATION CONTACT: Claire Stapleton, Chief Privacy Officer, Consumer Financial Protection Bureau, 1700 G Street NW., Washington, DC 20552, (202) 435-7220.

SUPPLEMENTARY INFORMATION: The Dodd-Frank Wall Street Reform and Consumer Protection Act (“Act”), Public Law 111-203, Title X, established the CFPB. The CFPB administers, enforces, and implements federal consumer financial law, and, among other powers, has authority to protect consumers from unfair, deceptive, and abusive practices when obtaining consumer financial products or services.

Pursuant to Section 1100 of Title X of the Act, authority for the creation and maintenance of a national registration system for residential mortgage loan originators (“MLOs”), as required by Section 1507 of the Secure and Fair Enforcement for Mortgage Licensing Act, 12 U.S.C 5106 (the “S.A.F.E. Act”), was transferred to the Bureau by an amendment to the S.A.F.E. Act.

This national registration system, known as the Nationwide Mortgage Licensing System and Registry (“NMLSR” or the “Federal Registry”), allows MLOs employed by federal agency regulated institutions to register and submit required information about themselves and their backgrounds as required under Section 1507 of the S.A.F.E. Act, 12 U.S.C. 5106, or its implementing regulation, 12 CFR 1007. More information about this system is available at http://mortgage.nationwidelicensingsystem.org/.

Information in the NMLSR is available to the Bureau, the Federal banking agencies (as defined in Section 1503 of the S.A.F.E. Act, 12 U.S.C. 5102(2)), and the Farm Credit Administration (“FCA”). An agency may retrieve non-public registration information only with respect to employees of the institutions subject to that agency's respective authority.

While the NMLSR also contains information required by individual states relating to the licensing of individuals who are MLOs practicing in their states, the CFPB does not claim ownership for those records, nor does this notice cover such records.

To ensure full compliance with the Privacy Act of 1974, 5 U.S.C. 552a, as amended, the CFPB is providing notice of the transfer of authority for S.A.F.E. Act activities, including the regulations that require MLOs to register through the NMLSR, the existence and character of records maintained by the system, and the procedures by which such records may be accessed and amended by individuals as allowed under the Privacy Act and the Freedom of Information Act. The CFPB will maintain the records covered by this notice.

The Dodd-Frank Wall Street Reform and Consumer Protection Act amended the S.A.F.E. Act and transferred responsibility for this system of records from the Federal banking agencies and the FCA to the Bureau. Those agencies that previously published notices establishing this system of records will revoke them upon this notice becoming effective, and this notice will serve as the sole notice for this system of records.

The report of a new system of records has been submitted to the Committee on Oversight and Government Reform of the House of Representatives, the Committee on Homeland Security and Governmental Affairs of the Senate, and the Office of Management and Budget, pursuant to Appendix I to OMB Circular A-130, “Federal Agency Responsibilities for Maintaining Records About Individuals,” dated November 30, 2000, and the Privacy Act, 5 U.S.C. 552a(r).

The system of records entitled, “CFPB.019—Nationwide Mortgage Licensing System and Registry” is published in its entirety below.

Dated: June 8, 2012.
Claire Stapleton,
Chief Privacy Officer, Bureau of Consumer Financial Protection.

CFPB.019

SYSTEM NAME:

Nationwide Mortgage Licensing System and Registry.

SYSTEM LOCATION:

Consumer Financial Protection Bureau, 1700 G Street NW., Washington, DC 20552.

State Regulatory Registry LLC, 1129 20th Street NW., Washington, DC 20036.

CATEGORIES OF INDIVIDUALS COVERED BY THE SYSTEM:

Individuals covered by this system include MLOs that are required to be registered under Section 1507 of the S.A.F.E. Act, 12 U.S.C. 5106, or its implementing regulation, 12 CFR 1007.

CATEGORIES OF RECORDS IN THE SYSTEM:

Records in this system contain identifying information about MLOs including: Names and former or other names used; Social Security numbers; genders; dates and places of birth; home and business contact information; employment dates; criminal histories, including the results of criminal background checks; financial services-related employment histories; civil, criminal, regulatory, and enforcement actions taken against MLOs in connection with their employment in the financial services industry; state license(s) held, status and license numbers, including license revocations and suspensions; fingerprint data; and unique identifiers assigned to NMLSR registrants.

AUTHORITY FOR MAINTENANCE OF THE SYSTEM:

Secure and Fair Enforcement for Mortgage Licensing Act (S.A.F.E. Act), Public Law 110-289, Division A, Title V, Sections 1501-1517, 122 Stat. 2654, 2810-2824 (July 30, 2008), codified at 12 U.S.C. 5106; The Dodd-Frank Wall Street Reform and Consumer Protection Act, Public Law 111-203, Title X, Section 1100 (5), codified at 12 U.S.C. 5106.

PURPOSE(S):

The system allows for the registration of MLOs employed by federal agency regulated institutions in a national registry, as required by the S.A.F.E. Act. The information is maintained to support federal regulatory oversight while providing the public with access to certain information concerning MLOs employed by institutions regulated by the Federal banking agencies or the FCA, including names and employment histories of those MLOs.

ROUTINE USES OF RECORDS MAINTAINED IN THE SYSTEM, INCLUDING CATEGORIES OF USERS AND THE PURPOSES OF SUCH USES:

These records may be disclosed, consistent with the CFPB Disclosure of Records and Information Rules, promulgated at 12 CFR part 1070 et seq., to:

(1) Appropriate agencies, entities, and persons when: (a) the CFPB suspects or has confirmed that the security or confidentiality of information in the system of records has been compromised; (b) the CFPB has determined that, as a result of the suspected or confirmed compromise, there is a risk of harm to economic or property interests, identity theft or fraud, or harm to the security or integrity of this system or other systems or programs (whether maintained by the CFPB or another agency or entity) that rely upon the compromised information; and (c) the disclosure made to such agencies, entities, and persons is reasonably necessary to assist in connection with the CFPB's efforts to respond to the suspected or confirmed compromise and prevent, minimize, or remedy such harm;

(2) Another federal or state agency to: (a) Permit a decision as to access, amendment or correction of records to be made in consultation with or by that agency; or (b) verify the identity of an individual or the accuracy of information submitted by an individual who has requested access to or amendment or correction of records;

(3) The Office of the President in response to an inquiry from that office made at the request of the subject of a record or a third party on that person's behalf;

(4) Congressional offices in response to an inquiry made at the request of the individual to whom the record pertains;

(5) Contractors, agents, or other authorized individuals performing work on a contract, service, cooperative agreement, job, or other activity on behalf of the CFPB or Federal Government and who have a need to access the information in the performance of their duties or activities;

(6) The U.S. Department of Justice (“DOJ”) for its use in providing legal advice to the CFPB or in representing the CFPB in a proceeding before a court, adjudicative body, or other administrative body, where the use of such information by the DOJ is deemed by the CFPB to be relevant and necessary to the advice or proceeding, and in the case of a proceeding, such proceeding names as a party in interest:

(a) The CFPB;

(b) Any employee of the CFPB in his or her official capacity;

(c) Any employee of the CFPB in his or her individual capacity where DOJ or the CFPB has agreed to represent the employee; or

(d) The United States, where the CFPB determines that litigation is likely to affect the CFPB or any of its components;

(7) A grand jury pursuant either to a federal or state grand jury subpoena, or to a prosecution request that such record be released for the purpose of its introduction to a grand jury, where the subpoena or request has been specifically approved by a court. In those cases where the Federal Government is not a party to the proceeding, records may be disclosed if a subpoena has been signed by a judge;

(8) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(9) Appropriate agencies, entities, and persons, including but not limited to potential expert witnesses or witnesses in the course of investigations, to the extent necessary to secure information relevant to the investigation;

(10) Appropriate federal, state, local, foreign, tribal, or self-regulatory organizations or agencies responsible for investigating, prosecuting, enforcing, implementing, issuing, or carrying out a statute, rule, regulation, order, policy, or license if the information may be relevant to a potential violation of civil or criminal law, rule, regulation, order, policy or license;

(11) To institutions employing MLOs that are required to be federally registered under Section 1507 of the S.A.F.E. Act, 12 U.S.C. 5106, for use in registering employees as mortgage loan originators or renewing employee registrations;

(12) To the public when the information relates to the employment history of, and publicly adjudicated disciplinary and enforcement actions against, MLOs that is included in the NMLSR for access by the public in accordance with Section 1507 of the S.A.F.E. Act, 12 U.S.C. 5106; and

(13) To the Federal Banking Agencies, as defined in section 1503 of the S.A.F.E. Act, 12 U.S.C. 5102(2), and the FCA, to carry out their oversight responsibilities for MLOs employed by entities subject to their respective authorities.

POLICIES AND PRACTICES FOR STORING, RETRIEVING, ACCESSING, RETAINING, AND DISPENSING OF RECORDS IN THE SYSTEM:

STORAGE:

Records maintained in this system are stored electronically and in file folders. Paper copies of individual records are made by authorized CFPB staff.

RETRIEVABILITY:

Records are retrievable by a variety of fields including, but not limited to: an individual MLO's name or unique identification number; by the financial institution's name or unique NMLS identification number; or by some combination thereof.

SAFEGUARDS:

Access to electronic records is restricted to authorized personnel who have been issued non-transferrable access codes and passwords. Other records are maintained in locked file cabinets or rooms with access limited to those personnel whose official duties require access.

RETENTION AND DISPOSAL:

The CFPB will maintain computer and paper records indefinitely until the National Archives and Records Administration approves the CFPB's records disposition schedule.

SYSTEM MANAGER(S) AND ADDRESS:

Consumer Financial Protection Bureau, Assistant Director, Supervision, 1700 G Street NW., Washington, DC 20552.

State Regulatory Registry LLC 1129 20th Street NW., Washington, DC 20036.

NOTIFICATION PROCEDURE:

Records created by a MLO or by a MLO's bank or bank subsidiary employer, or FCA institution or institution subsidiary employer, in the NMLSR may be accessed or amended directly by the MLO about whom the record pertains. If assistance is required to access, contest or amend such a record, individuals may contact the NMLS Call Center at (240) 386-4444, or may inquire in writing in accordance with instructions appearing in Title 12, Chapter 10 of the CFR, “Disclosure of Records and Information.” Address such requests to: Chief Privacy Officer, Bureau of Consumer Financial Protection, 1700 G Street NW., Washington, DC 20552.

RECORD ACCESS PROCEDURES:

See “Notification Procedures” above.

CONTESTING RECORD PROCEDURES:

See “Notification Procedures” above.

RECORD SOURCE CATEGORIES:

Information maintained in this system is obtained from MLOs who submit information to the registry and the results of Federal Bureau of Investigation (FBI) background checks.

EXEMPTIONS CLAIMED FOR THE SYSTEM:

None.

[FR Doc. 2012-14383 Filed 6-12-12; 8:45 am]

BILLING CODE 4810-AM-P